DEPARTMENT OF LABOR

Employment and Training Administration

[TA-W-37,715; TA-W-37,715A]

Murray, Incorporated, Lawrenceburg, TN, and Mantachie, MS; Amended Certification Regarding Eligibility To Apply for Worker Adjustment Assistance

In accordance with Section 223 of the Trade Act of 1974 (19 U.S.C. 2273) the Department of Labor issued a Certification of Eligibility to Apply for Worker Adjustment Assistance on June 20, 2000, applicable to workers of Murray, Incorporated, Lawrenceburg, Tennessee. The notice was published in the Federal Register on July 24, 2000 (65 FR 45620).

At the request of the company, the Department reviewed the certification for workers of the subject firm. New findings show that worker separations will occur at Murray, Incorporated's Mantachie, Mississippi facility when it closes in October, 2000. The workers are engaged in the production of bicycles.

Accordingly, the Department is amending the certification to cover workers at Murray, Incorporated, Mantachie, Mississippi. The intent of the Department's certification is to include all workers of Murray, Incorporated adversely affected by increased imports.

The amended notice applicable to TA-W-37,715 is hereby issued as follows:

All workers of Murray, Incorporated, Lawrenceburg, Tennessee (TA-W-37,715) and Mantachie, Mississippi (TA-W-37,715A) engaged in employment related to the production of bicycles who became totally or partially separated from employment on or after May 11, 1999 through June 20, 2002 are eligible to apply for adjustment assistance under Section 223 of the Trade Act of 1974.

Signed at Washington, DC this 13th day of September, 2000.
Edward A. Tomchick,
Director, Division of Trade Adjustment Assistance.

[FR Doc. 00-24420 Filed 9-21-00; 8:45 am]

BILLING CODE 4510-30-M